DEPARTMENT OF ENERGY

Federal Energy Regulatory Commission

[Project No. 12718-002]

Natural Currents Energy Services, LLC; Notice of Preliminary Permit Application Accepted for Filing and Soliciting Comments, Motions To Intervene, and Competing Applications

January 29, 2009.

On November 6, 2008, and supplemented on December 15, 2008, Natural Currents Energy Services, LLC filed an application, pursuant to section 4(f) of the Federal Power Act, proposing to study the feasibility of the Wards Island Tidal Energy Project located in the East River, off the south point of Wards Island in Hell's Gate in New York County, New York. The project uses no dam or impoundment.

The proposed project would consist of a hybrid generating station using solar, wind, and tidal power generators. The preliminary permit for this project will only deal the hydro portion of this project and would consist of: (1) A bridge approximately 60 feet-long leading to, (2) a barge-mounted power module equipped with, (3) four integrated 24 kilowatt vertical-axis helical turbines, for a total installed capacity of the tidal component of 96 kilowatts, and (4) interconnection transmission lines approximately 50 feet in length. The tidal component of the project is estimated to have a minimum annual generation of 420.5 megawatt-hours per year. Power generated by this project would contribute to the micro-loop utility grid to be developed on Wards Island for servicing the power needs of the public recreation and park facilities located there.

Applicant Contact: Mr. Roger Bason, Natural Currents Energy Services, LLC, 24 Roxanne Boulevard, Highland, New York 12561, phone: (845) 691-4008.

FERC Contact: Kelly T. Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12718-002) in the docket number field to access the document. For assistance, call toll-free 1-866-208-3372.

Kimberly D. Bose,
Secretary.

[FR Doc. E9-2521 Filed 2-5-09; 8:45 am]

BILLING CODE 6717-01-P